DEPARTMENT OF THE INTERIOR

Fish and Wildlife Service

[FWS-R6-R-2010-N215; 60138-1261-6CCP-S3]

Charles M. Russell National Wildlife Refuge and UL Bend National Wildlife Refuge, Montana

AGENCY: Fish and Wildlife Service, Interior (DOI).

ACTION: Notice; extension of comment period.

SUMMARY: We, the U.S. Fish and Wildlife Service, are extending the comment period for the availability of a draft comprehensive conservation plan (CCP) and environmental impact statement (EIS) for Charles M. Russell and UL Bend National Wildlife Refuges (NWRs, Refuges) in Montana for public review and comment. We extend the comment period for an additional 24 days.

DATES: We must receive any written comments on the CCP and EIS by December 10, 2010, at 5 p.m. Mountain Time.

ADDRESSES: Comments concerning the CCP and EIS can be sent by U.S. Mail, facsimile, or e-mail to Laurie Shannon, Planning Team Leader, Fish and Wildlife Service, Region 6, P.O. Box 25486, Denver, CO 80225-0486; or facsimile (303) 236-4317; or e-mail cmrplanning@fws.gov.

FOR FURTHER INFORMATION CONTACT: Laurie Shannon, 303-236-4317, or Bill Berg, 406-538-8706.

SUPPLEMENTARY INFORMATION: We are extending the comment period for review of the draft CCP and EIS for Charles M. Russell NWR and UL Bend NWR. On September 7, 2010, we opened a 60-day public comment period via a Federal Register notice (75 FR 54381). We now extend the comment period for an additional 24 days. The comment period will now officially close on December 10, 2010, at 5 p.m. Mountain Time.

Background

For background information, see our September 7, 2010, notice (75 FR 54381).

Document Availability

Copies of the draft CCP and EIS are available on the Mountain-Prairie Region Web site at http://www.fws.gov/mountain-prairie/; or the project Web site at http://www.fws.gov/cmr/planning.

Individuals wishing copies of the draft CCP and EIS should contact the Service by telephone (see FOR FURTHER INFORMATION CONTACT) or by letter (see ADDRESSES).

Additionally, hardcopies of the draft CCP and EIS are available for viewing, or for partial or complete duplication, at the following locations:

Library | Address | Phone number
Garfield County | 228 E. Main, Jordan, MT 59337 | (406) 557-2297
Glasgow | 408 3rd Avenue, Glasgow, MT 59230 | (406) 228-2731
Great Falls | 301 2nd Avenue, Great Falls, MT 59401 | (406) 453-0349
Lewistown | 701 W. Main, Lewistown, MT 59457 | (406) 538-5212
McCone County | 1101 C Avenue, Circle, MT 59215 | (406) 485-2350
Petroleum County | 205 S. Broadway, Winnett, MT 59087 | (406) 429-2451
Phillips County | 10 S. 4th Street E., Malta, MT 59538 | (406) 542-2407
Montana State University—Billings | 1500 University Drive, Billings, MT 59101 | (406) 657-2011
Montana State University—Bozeman | Roland R. Renne Library, Centennial Mall, Bozeman, MT 59717 | (406) 994-3171
Montana State University—Havre | Northern Vande Bogart Library, Cowan Drive, Havre, MT 59501 | (406) 265-3706
University of Montana | Mansfield Library, 32 Campus Drive, Missoula, MT 59812 | (406) 243-6860
Colorado State University | Morgan Library, 501 University Avenue, Fort Collins, CO 80523 | (970) 491-1841

Dated: October 21, 2010.
Hugh Morrison,
Acting Regional Director, Region 6.

[FR Doc. 2010-27352 Filed 10-29-10; 8:45 am]

BILLING CODE 4310-55-P